NUCLEAR REGULATORY COMMISSION

Elimination of the Site Decommissioning Management Plan and Management of All Sites Undergoing Decommissioning Under a Comprehensive Decommissioning Program; Information Notice

AGENCY: Nuclear Regulatory Commission.

ACTION: Information notice.

SUMMARY: The U.S. Nuclear Regulatory Commission (NRC) has decided to eliminate the Site Decommissioning Management Plan (SDMP) designation for sites and manage the SDMP sites as “complex sites,” under a comprehensive decommissioning program. Elimination of the SDMP designation and the discontinuance of the SDMP as a separate site listing is appropriate, because the original intent of the SDMP and SDMP Action Plan (i.e., to achieve closure on cleanup issues so that cleanup could proceed in a timely manner) has been achieved. The SDMP sites have been incorporated into a comprehensive decommissioning program that facilitates the cleanup of routine and complex sites in a manner that is consistent with the goals of the SDMP and SDMP Action Plan.

Viewed in the context of this comprehensive decommissioning program, which includes routine decommissioning sites, formerly licensed sites, SDMP sites, non-routine/complex sites, fuel cycle sites, and test/research and power reactors, the continued use of the SDMP does not provide the same benefits that it did when it was first developed. The staff believes the cleanup of these sites is managed more effectively as part of this larger program. As the SDMP sites will be managed as complex sites under this comprehensive program, the level of safety currently in place at SDMP sites will not be diminished. In addition, as sites are identified and managed as complex sites, and as more sites are evaluated pursuant to the comprehensive decommissioning program, common problematic technical issues should be identified more easily, and resolutions to these issues should be implemented in a more consistent manner.

FOR FURTHER INFORMATION, CONTACT: Daniel M. Gillen, Mail Stop: T-7F27, U.S. Nuclear Regulatory Commission, Washington, DC 20555-0001. Telephone: (301) 415-7295; Internet: dmg2@nrc.gov.

SUPPLEMENTARY INFORMATION:

Background

The SDMP was developed by the staff, in response to the Commission's direction to develop a comprehensive strategy for NRC to deal with a number of contaminated sites, so that closure on cleanup issues could be attained in a timely manner. In 1992, the staff developed the SDMP Action Plan to: (1) Identify criteria that would be used to guide the cleanup of sites; (2) state the NRC's position on finality; (3) describe the NRC's expectation that cleanup would be completed within 3-4 years; (4) identify guidance on site characterization; and (5) describe the process for timely cleanup on a site-specific basis.

Discussion

Since development of the SDMP Action Plan, the staff has addressed the issues identified in the Action Plan, as follows. The criteria for site cleanup and NRC's position on finality were codified in 10 CFR part 20, subpart E [License Termination Rule (LTR)]. NRC's expectations regarding the completion of site decommissioning have been codified in 10 CFR 30.36, 40.42, 70.38, and 72.54. Issues associated with site characterization have been addressed in the Multi-Agency Radiation Survey and Site Investigation Manual (MARSSIM) (NUREG-1575, Rev. 1, August 2000) and in Volume 2: Characterization, Survey, and Determination of Radiological Criteria, of the Consolidated NMSS Decommissioning Guidance (NUREG-1757, Vol. 2, September 2003). The process for timely cleanup on a site-specific basis is addressed in NUREG-1757, Consolidated NMSS Decommissioning Guidance.

In addition, the NRC staff tracks significant decommissioning issues in its operating plan, and resolution of an issue is integrated with the work being done at the site and with other activities in the decommissioning program. The staff has also developed a standard review plan (NUREG-1727, NMSS Decommissioning Standard Review Plan, September 2000) and has completed its efforts to consolidate, risk-inform, and performance-base the policies and guidance for its decommissioning program, with the issuance of a three-volume NUREG report (NUREG-1757, Consolidated NMSS Decommissioning Guidance). This guidance addresses compliance with the radiological criteria for license termination of the LTR, and it incorporates the risk-informed and performance-based alternatives of the rule. The guidance provides NRC staff with the evaluation and acceptance criteria for use in reviewing decommissioning plans, allowing NRC staff to determine if the decommissioning could be conducted such that the public health and safety are protected and the facility could be released in accordance with NRC's requirements.

Dated at Rockville, MD, this 7th day of June, 2004.
For the Nuclear Regulatory Commission.
Daniel M. Gillen,
Deputy Director for the Decommissioning Directorate, Division of Waste Management and Environmental Protection, Office of Nuclear Material Safety and Safeguards.

[FR Doc. 04-13665 Filed 6-16-04; 8:45 am]

BILLING CODE 7590-01-P